DEPARTMENT OF COMMERCE

National Institute of Standards and Technology

Announcing a Public Workshop on Personal Identity Verification (PIV) of Federal Employees/Contractors

AGENCY: National Institute of Standards and Technology (NIST).

ACTION: Notice of public workshop.

SUMMARY: The National Institute of Standards and Technology (NIST) announces a public workshop to obtain information on secure and reliable methods of verifying the identity of Federal employees and Federal contractors who are authorized access to Federal facilities and Federal information systems. An agenda and related information for the workshop will be available before the workshop from the NIST Computer Security Resource Center Web site at http://csrc.nist.gov. This workshop is not being held in anticipation of a procurement activity.

DATES: The PIV Public workshop will be held on October 7, 2004, from 8 a.m. to 5 p.m.

ADDRESSES: The PIV Public workshop will take place in a hotel facility in Gaithersburg, Maryland. Information about the meeting location and hotel accommodations will be available at http://csrc.nist.gov by September 8, 2004.

Registration: Registration prior to 5 p.m. October 3, 2004, is required. All registrations must be done online at https://rproxy.nist.gov/CRS/. Please go to this Conference Registration link and complete the registration form for the October 7, 2004 PIV Public Workshop. The registration fee is $95.00 and will include a continental breakfast and a deli-style lunch. A visitor's identification badge will be issued to all registered participants. The registrar for the workshop is Teresa Vicente (telephone: 301-975-3883; e-mail: teresa.vicente@nist.gov).

For Further Information Contact: Curt Barker (e-mail: wbarker@nist.gov; telephone: 301-975-8443; fax 301-948-1233) or Dr. Dennis Branstad (e-mail: Branstad@nist.gov; telephone: 301-975-4060) for technical information regarding the workshop.

Background Information: On August 27, 2004, President Bush signed the Homeland Security Presidential Directive/HSPD-12 (see http://www.whitehouse.gov/news/releases/2004/08/20040827-8.html) establishing a policy for a Common Identification Standard for Federal Employees and Contractors. This Directive states that the Secretary of Commerce shall promulgate a Federal standard within six months that assures secure and reliable forms of identification of Federal Employees and Federal Contractor Employees in many applications. The principal objectives of the standard are to create a secure and reliable automated system that may be used Government-wide to: (1) Establish the authentic true identity of an individual; (2) issue an PIV token (e.g., smartcard) to each authenticated individual which can later be used to verify the identity of the individual using appropriate technical means when access to a secure Federal facility or information system is requested; (3) be based on graduated criteria that provide appropriate levels of assurance and security to the application; (4) be strongly resistant to identity fraud, counterfeiting, and exploitation by individuals, terrorist organizations, or conspiracy groups; and (5) initiate development and use of interoperable automated systems meeting these objectives.

NIST is planning to propose a Federal Information Processing Standard (FIPS) tentatively entitled Personal Identity Verification as the primary document specified in HSPD-12. The envisioned standard may likely address operational requirements and the technical framework, architecture, and specifications for an automated system that will provide secure and reliable forms of identification to be issued by the Federal Government to its employees and contractors (including contractor employees). We anticipate that the technical focus will primarily be on electronic identity verification and access authorization credentials securely contained in an integrated-circuit token (e.g., smartcard) containing biometric characteristics (e.g., fingerprint image, facial image) of the individual to whom the token was issued for later identity verification. The standard shall not apply to identification associated with national security systems as defined by 44 U.S.C. 3542(b)(2).

Authority: NIST is conducting this workshop in accordance with HSPD-12 and within its authority under the Federal Information Security Management Act of 2002, the Information Technology Management Reform Act of 1996, Executive Order 13011, and OMB Circular A-130.

Dated: September 9, 2004.
Hratch G. Semerjian,
Acting Director.

[FR Doc. 04-20740 Filed 9-14-04; 8:45 am]

BILLING CODE 3510-CN-U